DEPARTMENT OF THE TREASURY

Submission for OMB Review; Comment Request

May 25, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 3, 2000, to be assured of consideration.

Internal Revenue Service (IRS)

OMB Number: 1545-0184.

Form Number: IRS Form 4797.

Type of Review: Extension.

Title: Sales of Business Property.

Description: Form 4797 is used by taxpayers to report sales, exchanges, or involuntary conversions of assets, other than capital assets and involuntary conversions of capital assets held more than one year. It is also used to compute ordinary income from recapture and the recapture of prior year section 1231 losses.

Respondents: Individual or households, Business or other for-profit.

Estimated Number of Respondents/Recordkeepers: 1,396,388.

Estimated Burden Hours Per Respondent/Recordkeeper:

Recordkeeping | 33 hr., 14 min.
Learning about the law or the form | 7 hr., 39 min.
Preparing the form | 8 hr., 3 min.

Frequency of Response: Annually.

Estimated Total Reporting/Recordkeeping Burden: 69,009,495 hours.

OMB Number: 1545-1008.

Form Number: IRS Form 8582.

Type of Review: Revision.

Title: Passive Activity Loss Limitations.

Description: Under Internal Revenue Code section 469, losses from passive activities, to the extent that they exceed income from passive activities, cannot be deducted against nonpassive income. Form 8582 is used to figure the passive activity loss allowed and the loss to be reported on the tax return.

Respondents: Business or other for-profit, Individuals or households, Farms.

Estimated Number of Respondents/Recordkeepers: 3,622,282.

Estimated Burden Hours Per Respondent/Recordkeeper:

Recordkeeping | 1 hr., 5 min.
Learning about the law or the form | 1 hr., 43 min.
Preparing the form | 1 hr., 31 min.
Copying, assembling, and sending the form to the IRS | 20 min.

Frequency of Response: Annually.

Estimated Total Reporting/Recordkeeping Burden: 17,254,834 hours.

OMB Number: 1545-1065.

Form Number: IRS Form 9003.

Type of Review: Extension .

Title: Additional Questions to be Completed by All Applicants for Permanent Residence in the United States.

Description: Form 9003 is used by the State Department and the Immigration and Naturalization Service to gather certain additional information from “green card” applicants for the IRS as required by section 6039E of the Internal Revenue Code of 1986. The answers are transcribed into a database for IRS computer processing.

Respondents: Individuals or households.

Estimated Number of Respondents: 933,000.

Estimated Burden Hours Per Respondent: 5 minutes.

Frequency of Response: Other (When applying for green card).

Estimated Total Reporting Burden: 77,750 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 00-13688 Filed 5-31-00; 8:45 am]

BILLING CODE 4830-01-U